ENVIRONMENTAL PROTECTION AGENCY

40 CFR Part 171

[EPA-HQ-OPP-2011-0183; FRL-9936-82]

RIN 2070-AJ20

Pesticides; Certification of Pesticide Applicators; Extension of Comment Period

AGENCY: Environmental Protection Agency (EPA).

ACTION: Proposed rule; extension of comment period.

SUMMARY: EPA issued a proposed rule in the Federal Register of August 24, 2015, concerning certification of applicators of restricted use pesticides. This document extends the comment period for 30 days, from November 23, 2015 to December 23, 2015. The comment period is being extended to provide additional time for commenters to prepare their responses.

DATES: Comments, identified by docket identification (ID) number EPA-HQ-OPP-2011-0183, must be received on or before December 23, 2015.

ADDRESSES: Follow the detailed instructions provided under ADDRESSES in the Federal Register document of August 24, 2015 (80 FR 51356) (FRL-9931-83).

FOR FURTHER INFORMATION CONTACT: Michelle Arling, Field and External Affairs Division (7506P), Office of Pesticide Programs, Environmental Protection Agency, 1200 Pennsylvania Ave. NW., Washington, DC 20460; telephone number: (703) 308-5891; email address: arling.michelle@epa.gov.

SUPPLEMENTARY INFORMATION: This document extends the public comment period established in the Federal Register document of August 24, 2015. In that document, comments were required to be submitted by November 23, 2015. EPA is hereby extending the comment period to December 23, 2015.

To submit comments, or access the docket, please follow the detailed instructions provided under ADDRESSES in the Federal Register document of August 24, 2015. If you have questions, consult the person listed under FOR FURTHER INFORMATION CONTACT.

List of Subjects in 40 CFR Part 171

Environmental protection, Administrative practice and procedure, Certified applicator, Commercial applicator, Indian Country, Indian Tribes, Noncertified applicator, Pesticides and pests, Private applicator, Reporting and recordkeeping requirements, Restricted use pesticides.

Dated: November 10, 2015.
James Jones,
Assistant Administrator, Office of Chemical Safety and Pollution Prevention.

[FR Doc. 2015-29370 Filed 11-17-15; 8:45 am]

BILLING CODE 6560-50-P